DEPARTMENT OF AGRICULTURE

Forest Service

John Day/Snake Resource Advisory Council, Hells Canyon Subgroup

AGENCY: Forest Service, USDA.

ACTION: Notice of meeting.

SUMMARY: The Hells Canyon Subgroup of the John Day/Snake Resource Advisory Council will meet on June 25-27, 2003 at the Pittsburg Admin Site on Snake River. The meeting will begin at 2 p.m. and continue until 5 p.m. the first day, day 2 will begin at 8 a.m. and will end at 5 p.m., and the final day will begin at 8 a.m. and end at noon. Public comment will be heard on June 25 at 1 at Pittsburg Launch.

FOR FURTHER INFORMATION CONTACT: Direct questions regarding this meeting to Kendall Clark, Area Ranger, USDA, Hells Canyon National Recreation Area, 88401 Highway 82, Enterprise, OR 97828, 541-426-5501.

Dated: May 20, 2003.
Karyn L. Wood,
Forest Supervisor.

[FR Doc. 03-13111 Filed 5-23-03; 8:45 am]

BILLING CODE 3410-11-M